DEPARTMENT OF HOMELAND SECURITY

Coast Guard

33 CFR Part 117

[Docket No. USCG-2017-0750]

RIN 1625-AA09

Drawbridge Operation Regulation; Pequonnock River, Bridgeport, CT

AGENCY: Coast Guard, DHS.

ACTION: Final rule.

SUMMARY: The Coast Guard is changing the operating schedule that governs the Metro-North Peck Bridge across the Pequonnock River, mile 0.3, at Bridgeport, Connecticut. The owner of the Bridge, Metro-North Railroad, submitted a request that vessels seeking an opening of the draw provide a minimum of four hours advance notice. It is expected this change to the regulations will better serve the needs of the community while satisfying the reasonable needs of navigation.

DATES: This rule is effective February 28, 2018.

ADDRESSES: To view documents mentioned in this preamble as being available in the docket, go to http://www.regulations.gov, type USCG-2017-0750. In the “SEARCH” box and click “SEARCH.” Click on Open Docket Folder on the line associated with this rulemaking.

FOR FURTHER INFORMATION CONTACT: If you have questions on this rule, call or email Mr. Jeffrey Stieb, Project Officer, First Coast Guard District, telephone, 617-223-8364, Jeffrey.D.Stieb@uscg.mil.

SUPPLEMENTARY INFORMATION:

I. Table of Abbreviations

CFR Code of Federal Regulations

DHS Department of Homeland Security

E.O. Executive order

FR Federal Register

NPRM Notice of proposed rulemaking

§ Section

U.S.C. United States Code

II. Background Information and Regulatory History

On October 10, 2017, we published a NPRM entitled “Drawbridge Operation Regulation; Pequonnock River, Bridgeport, Connecticut,” in the Federal Register (82 FR 46948). We received three comments on this rule that are discussed in Section IV.

III. Legal Authority and Need for Rule

The Coast Guard is issuing this rule under authority 33 U.S.C. 499.

The Metro-North Peck Bridge, mile 0.3, across the Pequonnock River at Bridgeport, Connecticut, has a vertical clearance of 26 feet at Mean High Water and 32 feet at Mean Low Water when the span is in the closed position. Vertical clearance is 65 feet when draw is open. Horizontal clearance is 105 feet. Waterway users include recreational and a limited number of small commercial vessels. The drawbridge operating regulations are listed at 33 CFR 117.219(b).

The bridge is a component of the Northeast Corridor, which supports Metro-North, Amtrak, and freight rail service. 211 Metro-North commuter trains alone cross the bridge daily. The owner of the bridge, the Metro-North Railroad, requested a change to require a minimum of four hours of advance notice to better facilitate the orderly flow of rail traffic while satisfying the reasonable needs of navigation. The Metro-North Railroad also requested to increase the number of hours the bridge need not open, except for emergencies, from 2 hours and 40 minutes to a total of 8 hours per day with exceptions for weekends, holidays, and emergencies, and to extend the allowable delay to an opening when a train is approaching the bridge from seven to fifteen minutes. Allowing the bridge owner to require such notice will allow for more efficient and economical operation of the bridge. The bridge has not received any requests for an opening in the past four years.

The Coast Guard believes this change balances the needs of land-based and marine traffic as it will enhance railroad traffic flow without significantly impacting vessel traffic.

IV. Discussion of Comments, Changes and the Final Rule

The Coast Guard received three comments in response to the NPRM. No changes in the regulatory text were made in response to the comments. One comment inquired whether the phone number for the bridge will be available other than by viewing the number posted as the bridge. Bridge openings can be requested by calling the Metro-North 24 hour Operations Control Center (OCC) at 212-340-2050. Metro-North will contact local waterway users directly to advise them of the number and the amended regulation.

A second comment asked how the amended regulation will be communicated to the maritime community. Metro-North will contact local waterway users directly and the Coast Guard will publish notice of the amended regulation and the phone number for the bridge in the Coast Guard's Local Notice to Mariners.

A third comment noted that, with exceptions for weekends, holidays and emergencies, the time that the bridge need not open daily, except for emergencies, has increased from 2 hours and 40 minutes to a total of 8 hours. This comment asked whether this increase will have any impact. The additional 5 hours and 20 minutes that the bridge need not open daily is not expected to have a significant impact. The bridge has not received any requests for an opening in the past four years and there are no businesses located upstream of the bridge hosting either vessels or barges that would need an opening of the draw as a routine matter. Metro-North will continue to fully maintain and open the bridge as needed to keep the bridge in operable condition.

V. Regulatory Analyses

We developed this rule after considering numerous statutes and Executive Orders related to rulemaking. Below we summarize our analyses based on a number of these statutes and Executive Orders, and we discuss First Amendment rights of protesters.

A. Regulatory Planning and Review

Executive Orders 12866 and 13563 direct agencies to assess the costs and benefits of available regulatory alternatives and, if regulation is necessary, to select regulatory approaches that maximize net benefits. Executive Order 13563 emphasizes the importance of quantifying both costs and benefits, of reducing costs, of harmonizing rules, and of promoting flexibility. This rule has not been designated a “significant regulatory action,” under Executive Order 12866. Accordingly, it has not been reviewed by the Office of Management and Budget.

The Coast Guard has determined this rule is not a significant regulatory action. There have been no requested openings for vessel for the past four years. The 26 foot vertical clearance available at Mean High Water when the bridge is in the closed position is sufficient to allow a majority of traffic to pass without an opening.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the national government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such expenditure, we do discuss the effects of this rule elsewhere in this preamble.

F. Environment

We have analyzed this rule under Department of Homeland Security Management Directive 023-01, which guides the Coast Guard in complying with the National Environmental Policy Act of 1969 (NEPA) (42 U.S.C. 4321-4370f), and have made a preliminary determination that this action is one of a category of actions which do not individually or cumulatively have a significant effect on the human environment. This rule simply promulgates the operating regulations or procedures for drawbridges. Normally such actions are categorically excluded from further review, under Table 1, L49 of DHS Instruction Manual 023-01-001-01, Rev. 01. A preliminary Record of Environmental Consideration and a Memorandum for the Record are not required for this rule. We seek any comments or information that may lead to the discovery of a significant environmental impact from this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; Department of Homeland Security Delegation No. 0170.1.

2. In § 117.219, paragraph (b) is revised to read as follows:

§ 117.219 Pequonnock River.

* * * * *

(b) The draw of the Metro-North Peck Bridge at mile 0.3, at Bridgeport shall operate as follows:

(1) The draw shall open on signal between 5:45 a.m. to 9 p.m. if at least four hours advance notice is given; except that, from 5:45 a.m. to 9:45 a.m., and 4 p.m. to 8 p.m., Monday through Friday excluding holidays, the draw need not open for the passage of vessel traffic unless an emergency exists.

(2) From 9 p.m. to 5:45 a.m., the draw shall open on signal if at least an eight hour notice is given.

(3) A delay in opening the draw not to exceed 15 minutes may occur when a train scheduled to cross the bridge without stopping has entered the drawbridge block.

(4) Requests for bridge openings may be made by calling the telephone number posted at the bridge.

* * * * *

Dated: January 16, 2018.
S.D. Poulin,
Rear Admiral, U. S. Coast Guard, Commander, First Coast Guard District.

[FR Doc. 2018-01605 Filed 1-26-18; 8:45 am]

BILLING CODE 9110-04-P